Title 3—

The President

Proclamation 9977 of January 17, 2020

Martin Luther King, Jr., Federal Holiday, 2020

By the President of the United States of America

A Proclamation

On August 28, 1963, nearly a quarter of a million people gathered in the August heat on the National Mall in Washington, DC, to hear the Reverend Dr. Martin Luther King, Jr., speak. People traveled to our Nation's Capital from places as far away as Atlanta and Los Angeles to witness one of the defining moments in American history. On the steps of the Lincoln Memorial, Dr. King articulated the founding dream of America, the vision of our Founders for all Americans to live as “an heir of the legacy of dignity and worth.” Today, we pause to honor the incredible life and accomplishments of Dr. King, who helped shape the Civil Rights Movement, gave hope to millions experiencing discrimination, and whose enduring memory inspires us to pursue a more just and equal society.

Dr. King dedicated his life's work to fighting for the right of every American to achieve the American Dream. Born the son of a Baptist minister on Auburn Street in Atlanta, Dr. King became an American icon and hero to millions of freedom-loving peoples everywhere, propelled by his powerful and inspiring message of peaceful protest and nonviolent resistance. From the steps of the Lincoln Memorial before thousands to the quiet solitude of a jail cell in Birmingham, Dr. King evinced an unshakable commitment to create a better future, never relenting in his quest for justice.

Since its inception, our Nation has served as a beacon of hope and opportunity around the world. America's promise of freedom and justice has guided our people through adversity to prosperity. Dr. King's life and legacy stands as a testament to that promise, one rooted in the inalienable rights of mankind and a commitment to freedom from persecution. Throughout his battle against segregation and discrimination, Dr. King praised his fellow demonstrators for returning “back to the deep wells of democracy” that trace their roots to our founding. We honor Dr. King's legacy and our Nation's heritage when we act to protect and expand freedom and opportunity.

As President, I remain committed to safeguarding the promise of our Nation and the values we share, the values that Dr. King so ardently worked to achieve. My Administration works each day to ensure that all Americans have every opportunity to realize a better life for themselves and their families regardless of race, class, gender, or any other barriers that have arbitrarily stood in their way. We have seen historic economic growth, with more than 7 million new jobs since my election and record highs in African-American, Hispanic-American, and Asian-American employment. Through a focused effort of deregulation and growth-oriented policies, we have unleashed the potential of the American economy and bolstered the strength of the greatest workforce in the world, the American workforce. We recognize that economic opportunity is the greatest engine for empowering individuals and families to overcome adversity, and we will continue to fight for opportunity for all Americans.

On this day, we are reminded of what Dr. King described as “our noble capacity for justice and love and brotherhood.” As we pay tribute to Dr. King, I urge all Americans to heed his call to action so that we may build the “Beloved Community” that he envisioned, living up to the sacred promise for a better future woven into the fabric of our American identity.

NOW, THEREFORE, I, DONALD J. TRUMP, President of the United States of America, by virtue of the authority vested in me by the Constitution and the laws of the United States, do hereby proclaim January 20, 2020, as the Martin Luther King, Jr., Federal Holiday. On this day, I encourage all Americans to recommit themselves to Dr. King's dream by engaging in acts of service to others, to their community, and to our Nation.

IN WITNESS WHEREOF, I have hereunto set my hand this seventeenth day of January, in the year of our Lord two thousand twenty, and of the Independence of the United States of America the two hundred and forty-fourth.

[FR Doc. 2020-01164

Filed 1-22-20; 8:45 am]

Billing code 3295-F0-P